DEPARTMENT OF HEALTH AND HUMAN SERVICES

Office of the Secretary

Opportunity To Co-Sponsor Office of Research Integrity Events

AGENCY: Office of the Secretary, HHS.

ACTION: Notice.

SUMMARY: The Office of Research Integrity (ORI) announces the opportunity for non-federal public and private sector entities to co-sponsor ORI conferences, workshops, symposia, meetings, roundtables, or other such events (collectively, “Events”). ORI co-sponsors a limited number of events with non-federal entities each year. Potential co-sponsors must have demonstrated interest and experience in the responsible conduct of research or handling allegations of research misconduct. Potential co-sponsors must be willing to participate substantively in the co-sponsored event.

DATES: Expressions of interest for co-sponsorship of an ORI Event may be submitted on an ongoing basis throughout the fiscal year (October 1, 2022-September 30, 2023) or beyond.

ADDRESSES: Expressions of interest for co-sponsorship of an ORI Event should be sent by email to AskORI@HHS.GOV with “Co-sponsorship for ORI Event” in the subject field.

FOR FURTHER INFORMATION CONTACT:

Tracey Randolph, Program Analyst, Office of Research Integrity, 1101 Wootton Parkway, Suite 240, Rockville, MD 20852, (240) 453-8200

SUPPLEMENTARY INFORMATION: ORI oversees and directs U.S. Public Health Service (PHS) research integrity activities on behalf of the Secretary of the U.S. Department of Health and Human Services (HHS), with the exception of the regulatory research integrity activities of the Food and Drug Administration. ORI is a program office within the Office of the Assistant Secretary for Health, Office of the Secretary, HHS.

Core to ORI's mission is the support of education and outreach activities that aid PHS-funded research institutions in their efforts “to teach the responsible conduct of research, promote research integrity, prevent research misconduct, and . . . to respond effectively to allegations of research misconduct” (65 FR 30600, 30601 (May 12, 2000)). ORI Events contribute to this mission by providing education, training, and/or the opportunity for discussion related to topics such as handling allegations of research misconduct and fostering research integrity and the responsible conduct of research. ORI Events typically are moderately sized, usually accepting between 20 and 150 attendees, and convened in person or virtually for one to three days.

Co-sponsors will work with ORI staff to jointly develop an event. Both ORI and the co-sponsor must contribute substantively to the development of the event. Co-sponsors can charge registration fees to recover costs associated with the events; however, co-sponsors may not set registration fees at an amount higher than necessary to recover event-related expenses. Further, co-sponsors are solely responsible for collecting and handling any registration fees.

Eligibility for Co-Sponsorship: The co-sponsoring entity must have demonstrated interest and experience in fostering the responsible conduct of research or handling of research misconduct allegations. The co-sponsoring entity must participate substantively in the co-sponsored activity, and not just provide funding, logistical services, or other material support.

Expression of Interest in Co-Sponsorship: An entity shall provide an expression of interest that includes (1) one to two paragraphs detailing why ORI should select the entity, including the entity's leadership in and management of matters involving research integrity and the responsible conduct of research, and (2) a bulleted outline addressing the seven topics listed below. The expression of interest should be one to two pages in length, single-spaced, and at least 11-point font. An entity may submit an expression of interest individually or jointly with other entities describing their relative contributions. The seven topics to be addressed in the outline are:

1. The entity's interest and goals in promoting research integrity and/or the responsible conduct of research

2. The entity's prior experience and current readiness to undertake the responsibilities described above

3. The type of event(s) that the entity is interested in co-sponsoring with ORI

4. Facilities available for the event(s), including the distance from the facilities to a major airport

5. Any current constraints with respect to dates or facilities

6. Whether the entity has co-sponsored an ORI Event in the past 36 months

7. Whether the entity has any cases, allegations, or other related matters pending with ORI

Evaluation Criteria: After engaging in exploratory discussions with potential co-sponsors who respond to this notice, HHS will apply the following considerations, as appropriate and relevant, to select the co-sponsor(s):

• Qualifications and capability to fulfill co-sponsorship responsibilities

• Suitability of the location of the proposed event in terms of the overall geographical distribution of recent or planned ORI Events

• Potential for reaching, generating, and engaging an adequate number of attendees

• Availability and description of facilities needed to support the event

• Availability of administrative support for the logistics of hosting such events

The duties of the co-sponsor will be outlined in a co-sponsorship agreement with ORI that will set forth the details of the co-sponsored event, including the requirements that any fees collected by the co-sponsor shall be limited to the amount necessary to cover the co-sponsor's event-related expenses. This co-sponsorship agreement does not represent an endorsement by ORI of an individual co-sponsor's policies, positions, or activities.

Dated: October 13, 2022.
Wanda K. Jones,
Acting Director, Office of Research Integrity, Office of the Assistant Secretary for Health.

[FR Doc. 2022-22887 Filed 10-20-22; 8:45 am]

BILLING CODE 4150-31-P